DEPARTMENT OF TRANSPORTATION

Federal Aviation Administration

14 CFR Part 39

[Docket No. FAA-2024-0455; Project Identifier MCAI-2023-00997-T; Amendment 39-22805; AD 2024-15-13]

RIN 2120-AA64

Airworthiness Directives; Embraer S.A. Airplanes

AGENCY: Federal Aviation Administration (FAA), DOT.

ACTION: Final rule.

SUMMARY: The FAA is adopting a new airworthiness directive (AD) for certain Embraer S.A. Model EMB-545 and EMB-550 airplanes. This AD was prompted by occurrences of premature cracks in the outer layer of certain flight deck side windows caused by interference due to manufacturing tolerances. This AD requires initial and repetitive inspections of the flight deck side windows and applicable corrective actions, and prohibits the installation of affected flight deck side windows, as specified in an Agência Nacional de Aviação Civil (ANAC) AD, which is incorporated by reference. The FAA is issuing this AD to address the unsafe condition on these products.

DATES: This AD is effective October 23, 2024.

The Director of the Federal Register approved the incorporation by reference of a certain publication listed in this AD as of October 23, 2024.

ADDRESSES:

AD Docket: You may examine the AD docket at regulations.gov under Docket No. FAA-2024-0455; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For ANAC material identified in this AD, contact National Civil Aviation Agency (ANAC), Aeronautical Products Certification Branch (GGCP), Rua Dr. Orlando Feirabend Filho, 230—Centro Empresarial Aquarius—Torre B—Andares 14 a 18, Parque Residencial Aquarius, CEP 12.246-190—São José dos Campos—SP, Brazil; telephone 55 (12) 3203-6600; email pac@anac.gov.br; website anac.gov.br/en/. You may find this material on the ANAC website at sistemas.anac.gov.br/certificacao/DA/DAE.asp. It is also available at regulations.gov under Docket No. FAA-2024-0455.

• You may view this material at the FAA, Airworthiness Products Section, Operational Safety Branch, 2200 South 216th St., Des Moines, WA. For information on the availability of this material at the FAA, call 206-231-3195. It is also available at regulations.gov under Docket No. FAA-2024-0455.

FOR FURTHER INFORMATION CONTACT: Hassan Ibrahim, Aviation Safety Engineer, FAA, 1600 Stewart Avenue, Suite 410, Westbury, NY 11590; phone: 206-231-3653; email: hassan.m.ibrahim@faa.gov.

SUPPLEMENTARY INFORMATION:

Background

The FAA issued a notice of proposed rulemaking (NPRM) to amend 14 CFR part 39 by adding an AD that would apply to certain Embraer S.A. Model EMB-545 and EMB-550 airplanes. The NPRM published in the Federal Register on March 7, 2024 (89 FR 16489). The NPRM was prompted by ANAC AD 2023-08-03R01, effective November 2, 2023 (ANAC AD 2023-08-03R01) (also referred to as the MCAI). The MCAI stated that premature cracks have occurred in the outer layer of left-hand and right-hand flight deck side windows with part number (P/N) NP-200402-7 or P/N NP-200402-8, caused by interference due to manufacturing tolerances.

In the NPRM, the FAA proposed to require initial and repetitive inspections of the flight deck side windows and applicable corrective actions, and to prohibit the installation of affected flight deck side windows, as specified in ANAC AD 2023-08-03R01. The FAA is issuing this AD to address cracks, delamination, scratches, erosion, and any other damage with the affected left-hand and right-hand flight deck side windows, which may subject the inner layer of the window to unpredicted loads for several flights, which could result in window failure and subsequent in-flight depressurization events.

You may examine the MCAI in the AD docket at regulations.gov under Docket No. FAA-2024-0455.

Discussion of Final Airworthiness Directive

Comments

The FAA received one comment, from Embraer S.A. The following presents the comment received on the NPRM and the FAA's response to the comment.

Request for Change to Exceptions Paragraph

Paragraph (b)(1)(i) of ANAC AD 2023-08-03R01 specified replacement of a window if “any crack in the outer layer” is detected. Paragraph (h)(2) of the proposed AD, however, specified replacement of a window if “any crack, delamination, or any other damage” is found. Embraer stated that delamination is commonly defined as a reduced adhesion or separation of the interlayer between the acrylic plies. Embraer claimed that delamination is found with some frequency in airplane windows and may be present during the inspection. Embraer added that delamination, as well as other typical damage (scratches, crazing, etc.) is not a structural concern, but would require the immediate window replacement according to the proposed AD. Embraer was concerned that the text of the proposed AD would require actions beyond the original intent of the ANAC AD, which is to provide instructions if a crack is identified. Embraer claimed that a crack in the window outer ply caused by the interference with its aluminum strap is the condition that may develop into the unsafe condition.

Since the commenter submitted the comment, ANAC has revised the MCAI. ANAC AD 2023-08-03R02, effective May 10, 2024 (ANAC AD 2023-08-03R02), clarifies the corrective actions for damages other than cracks, although it does not change the intent: If any crack in the outer layer is found, the revised MCAI requires replacing the window, and if delamination, scratches, erosion, or any damage other than a crack is found, the revised MCAI requires corrective actions that depend on the extent of the findings, as specified in Task 56-12-00-200-802-A, “Cockpit Side Window—Allowable limits,” Revision 50, dated May 12, 2023, as published in Aircraft Maintenance Manual AMM-5613, Part II (Maintenance Practices and Procedures-MPP), or further revisions of this task approved by ANAC.

The FAA affirms that maintenance procedures exist with limits defined by the window manufacturer in case of delamination, scratches, erosion, or any other damage. With the updated procedures, the FAA therefore agrees that the exception specified in paragraph (h)(2) of the proposed AD is unnecessary. The FAA has made the following changes to this AD:

• Paragraph (g) of this AD requires the actions specified in ANAC AD 2023-08-03R02 (instead of ANAC AD 2023-08-03R01).

• Paragraph (h)(2) of the proposed AD has been removed from this AD.

• Paragraph (i) has been added to this AD to provide credit if the actions in ANAC AD 2023-08-03R01 were accomplished before the effective date of this AD.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Material Incorporated by Reference Under 1 CFR Part 51

The FAA reviewed ANAC AD 2023-08-03R02, effective May 10, 2024. This material specifies procedures for initial and repetitive general visual inspections of the left-hand and right-hand flight deck side windows with P/N NP-200402-7 or P/N NP-200402-8 to detect cracks, delamination, scratches, erosion, and any other damage (such as chipping and crazing). Corrective actions include window replacement and other maintenance procedures depending on the extent of the findings. ANAC AD 2023-08-03R02 also prohibits the installation of flight deck side windows with P/N NP-200402-7 or P/N NP-200402-8, on any airplane.

This material is reasonably available because the interested parties have access to it through their normal course of business or by the means identified in the ADDRESSES section.

Costs of Compliance

The FAA estimates this AD affects 44 airplanes of U.S. registry. The FAA estimates the following costs to comply with this AD:

Estimated Costs for Required Actions
Labor cost | Parts cost | Cost per product | Cost on U.S. operators
1 work-hour × $85 per hour = $85 | $0 | $85 | $3,740

The FAA estimates the following costs to do any on-condition actions that would be required based on the results of any required actions. The FAA has no way of determining the number of aircraft that might need these on-condition actions:

Estimated Costs of On-Condition Actions
Labor cost | Parts cost | Cost per window
Up to 15 work-hours × $85 per hour = $1,275 | $21,636 | Up to $22,911.

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-15-13 Embraer S.A.: Amendment 39-22805; Docket No. FAA-2024-0455; Project Identifier MCAI-2023-00997-T.

(a) Effective Date

This airworthiness directive (AD) is effective October 23, 2024.

(b) Affected ADs

None.

(c) Applicability

This AD applies to Embraer S.A. Model EMB-545 and EMB-550 airplanes, certificated in any category, as identified in Agência Nacional de Aviação Civil (ANAC) AD 2023-08-03R02, effective May 10, 2024 (ANAC AD 2023-08-03R02).

(d) Subject

Air Transport Association (ATA) of America Code 56, Windows.

(e) Unsafe Condition

This AD was prompted by occurrences of premature cracks in the outer layer of certain flight deck side windows caused by interference due to manufacturing tolerances. The FAA is issuing this AD to address cracks, delamination, scratches, erosion, and any other damage of the flight deck side windows. The unsafe condition, if not addressed, may subject the inner layer of the window to unpredicted loads for several flights, which could result in window failure and subsequent in-flight depressurization events.

(f) Compliance

Comply with this AD within the compliance times specified, unless already done.

(g) Requirements

Except as specified in paragraph (h) of this AD: Comply with all required actions and compliance times specified in, and in accordance with, ANAC AD 2023-08-03R02.

(h) Exceptions to ANAC AD 2023-08-03R02

(1) Where ANAC AD 2023-08-03R02 refers to its effective date or “November 02nd, 2023, the effective date of the AD 2023-08-03R01,” this AD requires using the effective date of this AD.

(2) Where paragraph (b)(2) of ANAC AD 2023-08-03R02 specifies “at each 2,000 FC,” for this AD, replace that text with “at intervals not to exceed 2,000 FC.”

(3) This AD does not adopt paragraph (d) of ANAC AD 2023-08-03R02.

(i) Credit for Previous Actions

This paragraph provides credit for actions required by paragraph (g) of this AD, if those actions were performed before the effective date of this AD using ANAC AD 2023-08-03R01, effective November 2, 2023.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (k) of this AD. Information may be emailed to: AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or ANAC; or ANAC's authorized Designee. If approved by the ANAC Designee, the approval must include the Designee's authorized signature.

(k) Additional Information

For more information about this AD, contact Hassan Ibrahim, Aviation Safety Engineer, FAA, 1600 Stewart Avenue, Suite 410, Westbury, NY 11590; phone: 206-231-3653; email: hassan.m.ibrahim@faa.gov.

(l) Material Incorporated by Reference

(1) The Director of the Federal Register approved the incorporation by reference (IBR) of the material listed in this paragraph under 5 U.S.C. 552(a) and 1 CFR part 51.

(2) You must use this material as applicable to do the actions required by this AD, unless this AD specifies otherwise.

(i) Agência Nacional de Aviação Civil (ANAC) AD 2023-08-03R02, effective May 10, 2024.

(ii) [Reserved]

(3) For ANAC AD 2023-08-03R02 identified in this AD, contact ANAC, Aeronautical Products Certification Branch (GGCP), Rua Dr. Orlando Feirabend Filho, 230—Centro Empresarial Aquarius—Torre B—Andares 14 a 18, Parque Residencial Aquarius, CEP 12.246-190—São José dos Campos—SP, Brazil; telephone 55 (12) 3203-6600; email pac@anac.gov.br; website anac.gov.br/en/. You may find this ANAC AD on the ANAC website at sistemas.anac.gov.br/certificacao/DA/DAE.asp.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on September 12, 2024.
Victor Wicklund,
Deputy Director, Compliance & Airworthiness Division, Aircraft Certification Service.

[FR Doc. 2024-21177 Filed 9-17-24; 8:45 am]

BILLING CODE 4910-13-P